DEPARTMENT OF VETERANS AFFAIRS

National Research Advisory Council; Notice of Meeting

The Department of Veterans Affairs (VA) gives notice under Public Law 92-463 (Federal Advisory Committee Act) that the National Research Advisory Council will hold a meeting on Thursday, February 4, 2010, in the second floor conference room of the Paralyzed Veterans of America Building, 801 18th Street, NW., Washington, DC. The meeting will convene at 8:30 a.m. and end at 3 p.m. The meeting is open to the public.

The purpose of the Council is to provide external advice and review for VA's research mission. The agenda will include a review of the VA research portfolio and a summary of current budget allocations. The Council will also provide feedback on the direction/focus of VA's research initiatives.

Time will be allocated for receiving public comments at 2 p.m. Public comments will be limited to three minutes each. Individuals wishing to make oral statements before the Committee will be accommodated on a first-come first-served basis. Individuals who speak are invited to submit 1-2 page summaries of their comments at the time of the meeting for inclusion in the official meeting record.

The public may submit written statements for the Committee's review to Ms. Margaret Hannon, Designated Federal Officer, Department of Veterans Affairs, Office of Research and Development (12), 810 Vermont Avenue, NW., Washington, DC 20420, or electronically at Margaret.Hannon@va.gov. Any member of the public wishing to attend the meeting or seeking additional information should contact Ms. Hannon at (202) 461-1696.

Dated: January 14, 2010.
By direction of the Secretary.
Vivian Drake,
Acting Committee Management Officer.

[FR Doc. 2010-991 Filed 1-20-10; 8:45 am]

BILLING CODE 8320-01-P